DEPARTMENT OF ENERGY

Federal Energy Regulatory Commission

[Docket No. EL17-41-000]

Arkansas Public Service Commission; Mississippi Public Service Commission v. System Energy Resources, Inc.; Notice of Complaint

Take notice that on January 23, 2017, pursuant to sections 206 and 306 of the Federal Power Act ¹ and Rule 206 of the Federal Energy Regulatory Commission's (Commission) Rules of Practice and Procedure,² the Arkansas Public Service Commission and Mississippi Public Service Commission (collectively, the Complainants), filed a formal complaint against System Energy Resources, Inc. (SERI or Respondent) alleging that the current 10.94 percent return on equity used in calculating formula rates for inter-affiliate sales by Respondent is excessive and should be reduced, as more fully explained in the complaint.

¹ 16 U.S.C. 824e and 825e.

² 18 CFR 385.206.

Complainants certify that copies of the Complaint were served on contacts for Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 13, 2017.

Dated: January 24, 2017.
Kimberly D. Bose,
Secretary.

[FR Doc. 2017-02081 Filed 1-31-17; 8:45 am]

BILLING CODE 6717-01-P